FEDERAL COMMUNICATIONS COMMISSION

47 CFR Parts 73 and 76

[MM Docket No. 98-204, FCC 02-303]

RIN 4223

Review of the Commission's Broadcast and Cable Equal Employment Opportunity Rules and Policies

AGENCY: Federal Communications Commission.

ACTION: Proposed rule; extension of comment and reply comment period.

SUMMARY: In this document, the Media Bureau (Bureau) extends the comment and reply comments filing deadline in this docket. The intended effect of this action is to allow additional time in which to file comments and reply comments.

DATES: Comments are due January 16, 2003, and reply comments are due February 3, 2003.

ADDRESSES: Federal Communications Commission, Office of the Secretary, 445 12th Street, SW., Washington, DC 20554.

FOR FURTHER INFORMATION CONTACT: Estella Salvatierra, Media Bureau. (202) 418-1789.

SUPPLEMENTARY INFORMATION: 1. This is a synopsis of the Media Bureau's Order granting an extension of time for filing comments and reply comments in Review of the Commission's Broadcast and Cable Equal Employment Opportunity Rules and Policies, DA 02-3525, released December 19, 2002.

2. On November 20, 2002, the Commission released a Third Notice of Proposed Rule Making, MM Docket No. 98-204, FCC 02-303, 67 FR 77373 (December 17, 2002) (Third NPRM) requesting comments on the appropriate treatment of part-time employees under the Commission's Equal Employment Opportunity rules. Deadlines for comments and reply comments were December 20, 2002, and January 6, 2003, respectively. Notice of the new rulemaking proceeding was not, however, published in the Federal Register until December 17, 2002. In order to ensure that all parties have adequate notice of the rulemaking, the Bureau is extending these deadlines until January 16, 2003, for comments and February 3, 2003, for reply comments.

3. Accordingly, it is Ordered that the date for filing comments and reply comments in this proceeding is Extended to January 16, 2003, and February 3, 2003, respectively.

4. This action is taken pursuant to authority found in sections 4(i) and 303(r) of the Communications Act of 1934, as amended, 47 U.S.C. 4(i) and 303(r), and §§ 0.204(b), 0.283 and 1.46 of the Commission's rules, 47 CFR 0.204(b), 0.283 and 1.46.

Federal Communications Commission.
Deborah E. Klein,
Chief of Staff, Media Bureau.

[FR Doc. 02-32474 Filed 12-19-02; 4:57 pm]

BILLING CODE 6712-01-P